DEPARTMENT OF THE INTERIOR

National Park Service

36 CFR Part 7

[NPS-GLCA-NPS39678; NPS-2024-0005; PPIMGLCAA0.PPMPSAS1Z.Y00000-255P10361]

RIN 1024-AE91

Glen Canyon National Recreation Area; Motor Vehicles; Postponement of Effective Date

AGENCY: National Park Service, Interior.

ACTION: Final rule; postponement of effective date.

SUMMARY: This action further postpones the effective date for a rule published on January 13, 2025, pending judicial review.

DATES: As of March 14, 2025, the effective date of the rule amending 36 CFR part 7 published at 90 FR 2621, January 13, 2025, delayed on February 13, 2025, at 90 FR 9518, is postponed indefinitely, pending judicial review. The National Park Service (NPS) will publish a document in the Federal Register announcing the new effective date or other dates the public may need to know.

FOR FURTHER INFORMATION CONTACT: Michelle Kerns, Superintendent, Glen Canyon National Recreation Area, P.O. Box 1507, Page, Arizona 86040, by phone at 928-608-6210, or by email at GLCA_Superintendent@nps.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: On January 13, 2025, the NPS published a final rule revising special regulations at Glen Canyon National Recreation Area to update rules about the use of motor vehicles on roads and off roads on designated routes and areas (the “Final Rule”; 90 FR 2621). On January 20, 2025, the President issued a memorandum titled “Regulatory Freeze Pending Review” (“Freeze Memo”). The Freeze Memo directed all executive departments and agencies to consider postponing for 60 days from the date of the Freeze Memo the effective date for any rules that had been published in the Federal Register but had not yet taken effect for the purpose of reviewing any questions of fact, law, and policy that the rules may raise.

On February 13, the NPS published an action delaying the effective date for the Final Rule until March 21, 2025 (90 FR 9518) for the purpose of giving agency officials the opportunity to further review any questions of fact, law, and policy that the Final Rule may raise.

After conducting that review, the NPS has determined that justice requires an indefinite postponement of the effective date of the Final Rule, pending resolution of ongoing litigation. Under section 705 of the Administrative Procedure Act “[w]hen an agency finds that justice so requires, it may postpone the effective date of action taken by it, pending judicial review.” 5 U.S.C. 705. The State of Utah, Wayne and Garfield Counties, and the Utah School and Institutional Trust Lands Administration have challenged the special regulations for motor vehicle use at Glen Canyon National Recreation Area that were promulgated in 2021 (the “2021 Rule”; 86 FR 3804) and the corresponding off-road vehicle management plan (“ORV plan”). State of Utah v. Haaland, 4:24-cv-00048 (D. Utah). The plaintiffs allege numerous legal deficiencies, including claimed State interests in roads affected by the 2021 Rule, the plaintiffs' inability to economically develop school trust lands accessed from roads managed by the ORV Plan, and the opportunity for Department of the Interior agencies to better coordinate motorized vehicle regulation across jurisdictional boundaries. While the plaintiffs' challenge is to the 2021 Rule, many of the issues raised in that litigation, including the effects of off-road vehicle management on State interests and school trust lands, are also relevant to the Final Rule.

The NPS has determined that postponing the effective date of the Final Rule and preserving the regulatory status quo of the 2021 Rule pending the resolution of ongoing litigation regarding that rule is necessary in order to avoid unduly foreclosing potential remedies, ensure proper adjudication of these claims, and avoid creating a shifting regulatory landscape that may frustrate resolution of the issues raised in that litigation. Maintaining the status quo will also serve the public interest by avoiding confusion with the public on what motorized uses are allowed in the Recreation Area and avoiding unnecessary and costly agency operations to implement additional changes while the previous changes are the subject of the pending litigation.

Additionally, the Bureau of Land Management (“BLM”) released its Travel Management Plan for the Henry Mountains and Freemont Gorge Area on January 17, 2025, shortly after the publication of the Final Rule. This area is adjacent to the Recreation Area, and roads from the Recreation Area extend into this BLM planning area, and vice versa. Postponing the effective date of the Final Rule will allow for ongoing coordination on these matters that will better inform the adjudication of the pending claims from the State of Utah and the other plaintiffs.

Finally, the National Parks Conservation Association and Southern Utah Wilderness Alliance, parties to the Settlement Agreement under which the Final Rule was published, have been granted intervenor status in the challenge from the State of Utah to the 2021 Rule, so that the interests of all parties will be heard and adequately protected by resolution of these issues in that forum. In light of this active litigation, the NPS has concluded that justice requires it to postpone the effective date for the Final Rule until the judicial challenges to the 2021 Rule are resolved.

In addition to the ongoing judicial review of the 2021 Rule, which as described above raises issues relevant to the Final Rule, the United States House of Representatives and the United States Senate have both introduced joint resolutions providing for congressional disapproval of the Final Rule under the Congressional Review Act, 5 U.S.C. chapter 8. See H.J. Res. 60 (referred to the House Committee on Natural Resources on February 21, 2025) and S.J. Res. 30 (placed on the Senate Legislative Calendar on March 4, 2025). These resolutions create additional uncertainty for the parties about whether the Final Rule will become effective or will remain in effect if it does, providing additional support for this decision to further postpone the effective date of the Final Rule.

Maureen D. Foster,
Chief of Staff, Exercising the Delegated Authority of the Assistant Secretary for Fish and Wildlife and Parks.

[FR Doc. 2025-04129 Filed 3-13-25; 8:45 am]

BILLING CODE 4312-52-P